DEPARTMENT OF HEALTH AND HUMAN SERVICES

Centers for Disease Control and Prevention

CDC/HRSA Advisory Committee on HIV, Viral Hepatitis and STD Prevention and Treatment (CHACHSPT)

AGENCY: Centers for Disease Control and Prevention (CDC), Department of Health and Human Services (HHS).

ACTION: Notice of meeting.

SUMMARY: In accordance with the Federal Advisory Committee Act, the CDC and the Health Resources and Services Administration (HRSA) announce the following meeting for the CDC/HRSA Advisory Committee on HIV, Viral Hepatitis and STD Prevention and Treatment (CHACHSPT). This business meeting is open to the public, limited only by audio and web conference lines (1000 audio and web conference lines are available). The public is welcome to listen to the meeting by accessing the telephone number 1-669-254-5252, and the passcode is 55572151 (1000 lines are available). The web conference access is https://cdc.zoomgov.com/j/1606419940?pwd=V2krVkVXbGtvVFdLbXV3N25PbTV4UT09, webinar ID: 160 641 9940 and passcode: ZeTt@2VL.

DATES: The business meeting will be held on April 12, 2021, from 3:00 p.m. to 5:00 p.m., EDT.

ADDRESSES: The teleconference access is 1-669-254-5252, and the passcode is 55572151. The web conference access is https://cdc.zoomgov.com/j/1606419940?pwd=V2krVkVXbGtvVFdLbXV3N25PbTV4UT09, webinar ID: 160 641 9940 and passcode: ZeTt@2VL.

FOR FURTHER INFORMATION CONTACT: Staci Morris, Committee Management Specialist, National Center for HIV, Viral Hepatitis, STD, and TB Prevention, CDC, 1600 Clifton Road NE, Mailstop US8-6, Atlanta, Georgia 30329-4027, Telephone (404) 718-7479; smorris4@cdc.gov.

SUPPLEMENTARY INFORMATION:

Purpose: This committee is charged with advising the Director, CDC and the Administrator, HRSA, regarding activities related to prevention and control of HIV, Viral Hepatitis and other STDs, the support of health care services to persons living with HIV/AIDS, and education of health professionals and the public about HIV, Viral Hepatitis and other STDs.

Matters To Be Considered: The agenda will include discussions on (1) HIV Testing Guidelines; and (2) FDA reclassification, home-based HIV self-tests and point-of-care testing for HCV. Agenda items are subject to change as priorities dictate.

The Director, Strategic Business Initiatives Unit, Office of the Chief Operating Officer, Centers for Disease Control and Prevention, has been delegated the authority to sign Federal Register notices pertaining to announcements of meetings and other committee management activities, for both the Centers for Disease Control and Prevention and the Agency for Toxic Substances and Disease Registry.

Kalwant Smagh,
Director, Strategic Business Initiatives Unit, Office of the Chief Operating Officer, Centers for Disease Control and Prevention.

[FR Doc. 2021-03961 Filed 2-25-21; 8:45 am]

BILLING CODE 4163-18-P